ENVIRONMENTAL PROTECTION AGENCY

[EPA-HQ-OW-2014-0170; FRL-9916-71-OW]

RIN 2040-ZA18

Final 2012 and Preliminary 2014 Effluent Guidelines Program Plans and 2012 and 2013 Annual Effluent Guidelines Review Reports

AGENCY: Environmental Protection Agency (EPA).

ACTION: Notice of availability.

SUMMARY: This notice announces the availability of the combined Final 2012 and Preliminary 2014 Effluent Guidelines Program Plans and EPA's 2012 and 2013 Annual Effluent Guidelines Review Reports. This notice solicits public comment and input on the Preliminary 2014 Plan and the 2012 and 2013 Annual Review Reports.

The Clean Water Act (“CWA” or “Act”) requires EPA to biennially publish a plan for new and revised effluent guidelines, after public notice and comment, which identifies any new or existing industrial categories selected for effluent guidelines rulemaking and provides a schedule for such rulemaking. EPA typically publishes a preliminary plan upon which the public is invited to comment, and then publishes a final plan about a year later.

DATES: Submit comments on or before November 17, 2014.

ADDRESSES: Submit your comments on the 2012 and 2013 Annual Reviews and the Preliminary 2014 Plan identified by Docket ID No. EPA-HQ-OW-2014-0170, by one of the following methods:

• http://www.regulations.gov: Follow the on-line instructions for submitting comments.

• Email: ow-docket@epa.gov, Attention Docket ID No. EPA-HQ-OW-2014-0170 .

• Fax: (202) 566—9744.

• Mail: Water Docket, Environmental Protection Agency, Mailcode: 2822T, Attention Docket ID No. EPA-HQ-OW-2014-0170, 1200 Pennsylvania Ave. NW., Washington, DC 20460.

• Hand Delivery: EPA Docket Center, EPA West, Room 3334, 1301 Constitution Avenue NW., Washington, DC, Attention Docket ID No. EPA-HQ-OW-2014-0170. Such deliveries are accepted only during the Docket Center's normal hours of operation, and special arrangements should be made for deliveries of boxed information.

Instructions: Direct your comments on the 2012 and 2013 Annual Reviews and Preliminary 2014 Plan to Docket ID No. EPA-HQ-OW-2014-0170. EPA's policy is that all comments received will be included in the public docket without change and could be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means that EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment because of technical difficulties and cannot contact you for clarification, EPA might not be able to consider your comment. Electronic files should avoid the use of special characters, any form of encryption, and be free of any defects or viruses. For additional information about EPA's public docket visit the EPA Docket Center homepage at http://www.epa.gov/epahome/dockets.htm. For additional instructions on submitting comments, go to the SUPPLEMENTARY INFORMATION section of this document.

Submitting Confidential Business Information

Do not submit confidential business information (CBI) to EPA through www.regulations.gov or email. Any CBI you wish to submit should be sent via a trackable physical method, such as Federal Express or United Parcel Service, to Mr. M. Ahmar Siddiqui, Document Control Officer, Engineering and Analysis Division (4303T), Room 6231S EPA West, U.S. EPA, 1200 Pennsylvania Ave. NW., Washington, DC 20460. A CBI package should be double-wrapped, so that the CBI is in one package, which is itself inside another package. Clearly mark the part or all of the information that you claim to be CBI. For CBI information on a disk or CD ROM that you mail to EPA, mark the outside of the disk or CD ROM as CBI and then identify electronically within the disk or CD ROM the specific information that is claimed as CBI. In addition to one complete copy of the material that includes information claimed as CBI, a copy of the material that does not contain the information claimed as CBI must be submitted for inclusion in the public docket. Information marked as CBI will not be disclosed except in accordance with procedures set forth in 40 CFR Part 2.

Docket: All documents in the docket are listed in the index at www.regulations.gov. Although listed in the index, some information is not publicly available, i.e., CBI or other information whose disclosure is restricted by statute. Certain other material, such as copyrighted material, is not placed on the Internet and will be publicly available only in hard copy form. Publicly available docket materials are available either electronically at www.regulations.gov or in hard copy at the Water Docket in the EPA Docket Center, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the Water Docket is (202) 566-2426.

FOR FURTHER INFORMATION CONTACT: Mr. William F. Swietlik, Engineering and Analysis Division, Office of Water, 4303T, U. S. Environmental Protection Agency, 1200 Pennsylvania Avenue NW., Washington, DC 20460; telephone number: (202) 566-1129; fax number: (202) 566-1053; email address: swietlik.william@epa.gov.

SUPPLEMENTARY INFORMATION:

I. General Information

A. Supporting Documents

Key documents providing additional information about EPA's 2012 and 2013 Annual Reviews and the Final 2012 and Preliminary 2014 Plans include the 2012 and 2013 Annual Effluent Guidelines Review Reports and the combined Final 2012 and Preliminary 2014 Effluent Guidelines Program Plans.

B. How can I get copies of these documents and other related information?

1. Docket. EPA has established official public dockets for these actions under Docket ID No. EPA-HQ-OW-2014-0170. The official public docket is the collection of materials that is available for public viewing at the Water Docket in the EPA Docket Center, (EPA/DC) EPA West, Room 3334, 1301Constitution Ave. NW., Washington, DC 20460.

2. Electronic Access. You may access this Federal Register document electronically through the United States government online source for Federal regulations at http://www.regulations.gov.

3. Internet access. Copies of the supporting documents are available at http://water.epa.gov/lawsregs/lawsguidance/cwa/304m/index.cfm.

C. What should I consider as I prepare my comments for EPA?

Tips for Preparing Your Comments. When submitting comments, remember to:

• Identify the rulemaking by docket number and other identifying information (subject heading, Federal Register date and page number).

• Follow directions—The agency might ask you to respond to specific questions or organize comments by referencing a Code of Federal Regulations (CFR) part or section number.

• Explain why you agree or disagree, suggest alternatives, and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible.

• Make sure to submit your comments by the comment period deadline identified.

II. How is this document organized?

The outline of this notice follows:

A. Legal Authority

B. Summary of the Final 2012 and Preliminary 2014 Effluent Guidelines Program Plans

C. Public Comments

D. Requests for Public Comment and Information

A. Legal Authority

This notice is published under the authority of the CWA, 33 U.S.C. 1251, et seq., and in particular sections 301(d), 304(b), 304(g), 304(m), 306, 307(b)and 308 of the Act, 33 U.S.C. 1311(d), 1314(b), 1314(g), 1314(m), 1316, 1317(b), and 1318.

B. Summary of the Final 2012 and Preliminary 2014 Effluent Guidelines Program Plans

The Final 2012 Effluent Guidelines Program Plan (“Final 2012 Plan”) and the Preliminary 2014 Effluent Guidelines Program Plan (“Preliminary 2014 Plan”) were prepared pursuant to Clean Water Act section 304(m). The Plans provide a summary of EPA's review of effluent guidelines and pretreatment standards, consistent with CWA sections 301(d), 304(b), 304(g), 304(m), and 307(b) and EPA's evaluation of indirect discharges without categorical pretreatment standards to identify potential new categories for pretreatment standards under CWA section 307(b). From these reviews, the Plans identify any new or existing industrial categories selected for effluent guidelines rulemakings, and provide a schedule for such rulemakings. In addition, the Plans present any new or existing categories of industry selected for further review and analysis.

Both Plans are supported by EPA's 2012 and 2013 Annual Reviews (U.S. EPA, 2014a and 2014b), which also build on prior reviews, including EPA's 2011 Annual Review (U.S. EPA, 2012a). The 2012 Annual Review includes additional hazard data sources and supporting analyses aimed at identifying new pollutants of concern and identifying wastewater discharges in industrial categories that may not be currently regulated by effluent limitations guidelines and standards. EPA's 2011, 2012 and 2013 Annual Review Reports are a part of the Annual Review record and can be found at http://water.epa.gov/lawsregs/lawsguidance/cwa/304m/index.cfm.

C. Public Comments

EPA also considers public comments and information submitted by stakeholders in response to the Effluent Limitations Guidelines Program Plan, and submitted in response to specific solicitations made in this Notice (see Request for Comment and Information below). A summary of the public comments and stakeholder input on the Preliminary 2012 Plan is provided in the Final 2012 Plan and a detailed listing of all commenters, and the subjects upon which they commented, is provided in the 2012 Annual Review Report. All submitted comment letters, attachments and information are made a part of the record for the Effluent Guidelines Plan and are publicly accessible at www.regulations.gov.

D. Requests for Public Comment and Information

For the Preliminary 2014 Effluent Limitations Guidelines Plan, EPA requests comments and information on the following topics:

1. Data Sources and Methodologies—In General

EPA solicits comments on whether it used the correct evaluation factors, criteria, and data sources in conducting its 2012 and 2013 Annual Reviews and in developing the Plans. EPA also solicits comment on other data sources EPA might use in its annual reviews and biennial planning process.

2. The Preliminary 2014 Effluent Guidelines Program Plan

EPA solicits comments on its Preliminary 2014 Plan, including the data and information used to support the findings, actions and conclusions as stated in the Preliminary 2014 Plan. Specifically, EPA solicits public comment and stakeholder input, data and information on:

(a) Study of Centralized Waste Treatment (“CWT”) facilities. EPA has decided to conduct a study of CWT facilities accepting oil and gas extraction wastewater. EPA solicits data and information related to the extent to which CWT facilities accept such wastewater, available treatment technologies (and their associated costs), discharge characteristics, financial characteristics of CWT facilities, the environmental impacts of discharges from CWT facilities, as well as any other information believed to be relevant to EPA's study of this issue.

(b) Study of Petroleum Refineries. EPA plans to initiate a study of Petroleum Refineries (40 CFR Part 419). EPA specifically solicits data and information on the discharge of metals and dioxin from petroleum refineries, including for example, the source(s) of these contaminants, either in crude oil sources or in the refining process, the effects of new air pollution controls on wastewater discharges at refineries, and information on current and future trends in oil refining processes. EPA also solicits data and information on current wastewater treatment technology performance at petroleum refineries, as well as any other information believed to be relevant to EPA's study of this issue.

(c) Preliminary Category Review of Metal Finishing. EPA plans to continue a preliminary category review of the Metal Finishing point source category (40 CFR Part 433). EPA solicits data and information regarding the discharge and treatment of metals, particularly chromium, nickel, and zinc, in addition to cadmium, copper, lead, silver and any others, to publicly owned treatment works (“POTWs”) by metal finishers, as well as any other information believed to be relevant to EPA's review.

(d) Nanomaterials manufacturing and formulating. EPA is collecting data and information on the potential industrial wastewater discharge hazards associated with nanomaterials manufacturing and formulating. EPA requests public comment and stakeholder input relating to any information or data available on the wastewater hazards and discharges associated with the manufacture of nanomaterials and their use in manufacturing or formulating products, as well as any other information believed to be relevant.

3. Innovation and Technology in the Effluent Guidelines Program

As it did in the Preliminary 2012 Effluent Guidelines Plan, EPA is again requesting public comment and ideas on the subject of technology innovation. EPA seeks public input and comment on the following questions and related themes:

(a) Are there new, innovative pollution control or pollution prevention technologies that can be used by any of the existing 57 categories of industry with effluent limitations guidelines?

(b) Are there innovative manufacturing approaches that can be used by industries to reduce or prevent their wastewater discharges?

(c) How can EPA's effluent limitations guidelines program enhance technology transfer to catalyze and harness innovation to solve industrial wastewater problems, both now and in the future?

(d) How can EPA better foster consideration of innovative technologies through the effluent guidelines planning process?

Dated: September 9, 2014.
Kenneth J. Kopocis,
Deputy Assistant Administrator, Office of Water.

[FR Doc. 2014-22062 Filed 9-15-14; 8:45 am]

BILLING CODE 6560-50-P